DEPARTMENT OF ENERGY

Federal Energy Regulatory Commission

[Docket No. CP02-161-000]

Ohio Valley Hub, LLC; Notice of Application for Blanket Certificate of Public Convenience and Necessity

June 4, 2002.

Take notice that on April 17, 2002, Ohio Valley Hub, LLC (OVH), 19 N.W. Fourth Street, Suite 600, Evansville, Indiana 47708, filed, pursuant to Section 7(c) of the Natural Gas Act (NGA) 15 U.S.C. 717f(c), and Section 284.224 of the Commission's regulations, 18 CFR 284.224, an Application for Blanket Certificate of Public Convenience and Necessity to provide firm and interruptible transportation services in the same manner as though it were an interstate pipeline providing such services under Subparts C and D of Part 284 of the Commission's regulations, all as more fully set forth in the application that is on file with the Commission and open to public inspection.

OVH is engaged in the business of transporting natural gas to two customers within the State of Indiana. OVH is a public utility within the meaning of Indiana Code § 8-1-2-1 and its rates and tariffs are subject to regulation by the Indiana Utility Regulatory Commission. OVH is exempt from the Commission's regulation by reason of Section 1(c) of the NGA.

Any person desiring to be heard or to protest said filing should file a motion to intervene or a protest with the Federal Energy Regulatory Commission, 888 First Street, NE., Washington, DC 20426, in accordance with Sections 385.214 or 385.211 of the Commission's Rules and Regulations. All such motions or protests must be filed on or before June 11, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-14466 Filed 6-7-02; 8:45 am]

BILLING CODE 6717-01-P